DEPARTMENT OF COMMERCE

International Trade Administration

[A-201-822]

Stainless Steel Sheet and Strip in Coils From Mexico; Antidumping Duty Administrative Review; Extension of Time Limit

AGENCY: Import Administration, International Trade Administration, Department of Commerce.

ACTION: Notice of extension of time limit.

SUMMARY: The Department of Commerce (the Department) is extending the time limit for the final results of the 2001-2002 administrative review of the antidumping duty order on stainless steel sheet and strip in coils from Mexico. This review covers one manufacturer/exporter of the subject merchandise to the United States, ThyssenKrupp Mexinox S.A. de C.V., and the period July 1, 2001 through June 30, 2002.

EFFECTIVE DATE: October 14, 2003.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue, NW., Washington, DC 20230.

SUPPLEMENTARY INFORMATION: On August 7, 2003, we published the preliminary results of the administrative review of stainless steel sheet and strip in coils from Mexico for the period July 1, 2001 through June 30, 2002. See Stainless Steel Sheet and Strip in Coils from Mexico; Preliminary Results of Antidumping Duty Administrative Review, 68 FR 47043 (August 7, 2003). Pursuant to the time limits for administrative reviews set forth in section 751(a)(3)(A) of the Tariff Act of 1930, as amended (the Tariff Act), currently the final results of this administrative review are due on December 5, 2003. It is not practicable to complete this review within the normal statutory time limit due to a number of significant case issues, such as level of trade, the calculation of general and administrative expenses and interest expenses for cost of production and constructed value, and the inclusion of certain affiliated sales in the margin calculation. Making a determination with respect to these issues requires considerable scrutiny of respondent's questionnaire and supplemental questionnaire responses. Thus, it is not practicable to complete this review within the normal statutory time limit. Therefore, the Department is extending the time limit for completion of the final results until February 3, 2004 in accordance with section 751(a)(3)(A) of the Tariff Act.

Dated: October 7, 2003.
Richard O. Weible,
Acting Deputy Assistant Secretary for Import Administration, Group III.

[FR Doc. 03-25910 Filed 10-10-03; 8:45 am]

BILLING CODE 3510-DS-P